DEPARTMENT OF COMMERCE

National Oceanic and Atmospheric Administration

Agency Information Collection Activities; Submission to the Office of Management and Budget (OMB) for Review and Approval; Comment Request; Individual Fishing Quotas for Pacific Halibut and Sablefish in the Alaska Fisheries

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 15, 2021.

ADDRESSES: Interested persons are invited to submit written comments to Adrienne Thomas, NOAA PRA Officer, at Adrienne.thomas@noaa.gov. Please reference OMB Control Number 0648-0272 in the subject line of your comments. Do not submit Confidential Business Information or otherwise sensitive or protected information.

FOR FURTHER INFORMATION CONTACT: Requests for additional information or specific questions related to collection activities should be directed to Gabrielle Aberle, 907-586-7228.

SUPPLEMENTARY INFORMATION:

I. Abstract

The National Marine Fisheries Service (NMFS), Alaska Regional Office, is requesting renewal of a currently approved information collection that contains requirements for the Pacific Halibut and Sablefish Individual Fishing Quota Program (IFQ Program).

The International Pacific Halibut Commission (IPHC) and NMFS Alaska Region manage fishing for Pacific halibut (Hippoglossus stenolepis) through regulations established under the authority of the Northern Pacific Halibut Act of 1982, 16 U.S.C. 773c (Halibut Act). The IPHC promulgates regulations governing the halibut fishery under the Convention between the United States and Canada for the Preservation of the Halibut Fishery of the Northern Pacific Ocean and Bering Sea (Convention). Regulations pursuant to the Convention are set forth at 50 CFR 300 subpart E.

The North Pacific Fishery Management Council, under the authority of the Halibut Act (with respect to Pacific halibut) and the Magnuson-Stevens Fishery Conservation and Management Act (16 U.S.C. 1801 et seq.; Magnuson-Stevens Act) (with respect to sablefish), manages the IFQ Program. NMFS Alaska Region administers the IFQ Program. Regulations implementing the IFQ Program are set forth at 50 CFR part 679.

The IFQ Program provides a limited access system for Pacific halibut in Convention waters in and off Alaska and sablefish fisheries in waters of the Exclusive Economic Zone off Alaska. The IFQ Program provides coastal Alaska communities a source of revenue, while maintaining the social and economic character of the fixed-gear sablefish and halibut fisheries. The IFQ Program provides economic stability for these fisheries while reducing many of the conservation and management problems commonly associated with open-access fisheries. The IFQ Program includes several provisions, such as ownership caps and vessel use caps that protect small producers, part-time participants, and entry-level participants that otherwise could be adversely affected by excessive consolidation.

Participation in the IFQ Program is limited to persons that hold quota share (QS), although there are several very limited provisions for “leasing” of annual IFQ. QS is a transferable permit that was initially issued to persons who owned or leased vessels that made legal commercial fixed-gear landings of Pacific halibut or sablefish in the waters off Alaska from 1988 through 1990. Currently, QS may only be obtained through transfer.

Annually, NMFS issues eligible QS holders an IFQ fishing permit that authorizes participation in the IFQ fisheries. Those to whom IFQ permits are issued may harvest their annual allocation at any time during the eight plus-month IFQ halibut and sablefish seasons.

More information on the IFQ Program is provided on the NMFS Alaska Region website at https://www.fisheries.noaa.gov/alaska/sustainable-fisheries/pacific-halibut-and-sablefish-individual-fishing-quota-ifq-program.

Some of the collection instruments in this information collection are used by participants in the Western Alaska Community Development Quota (CDQ) Program. The purpose of the CDQ Program is to provide eligible western Alaska villages with the opportunity to participate and invest in fisheries in the Bering Sea and Aleutian Islands Management Area (BSAI); to support economic development in western Alaska; to alleviate poverty and provide economic and social benefits for residents of western Alaska; and to achieve sustainable and diversified local economies in western Alaska. In fitting with these goals, NMFS allocates a portion of the annual catch limits for a variety of commercially valuable marine species in the BSAI to the CDQ Program. Pacific halibut is one of these species. More information on the CDQ Program is provided on the NMFS Alaska Region website at https://www.fisheries.noaa.gov/alaska/sustainable-fisheries/community-development-quota-cdq-program. Information collection requirements for the CDQ Program are approved under OMB Control Number 0648-0269.

This information collection is required to manage commercial halibut and sablefish fishing under the Magnuson-Stevens Act, the Halibut Act, and under 50 CFR parts 300 and 679.

This information collection contains the forms used by participants in the IFQ Program to apply for, renew, or replace permits; transfer or lease IFQ and QS; determine compliance with IFQ program requirements; and designate a beneficiary for a QS holder. Two of the permit applications are also used by participants in the CDQ Program. This information collection also contains annual reports and other collections submitted by telephone or other methods and that do not have forms.

The type of information collected includes information on the applicants, transferors, transferees, permits, IFQ or QS types and owners, beneficiaries, vessels, business operations, medical declarations, landings, gear types, products, and harvests and harvest areas.

This information is used to identify and authorize participants in the halibut and sablefish fisheries, to track and transfer quota share, to limit transfers to authorized participants, and to monitor quota share balances and harvest in these fisheries.

II. Method of Collection

The information is collected primarily by mail, delivery, fax, email, or telephone. Registered buyers may use eFISH to renew or amend their registered buyer permit. eFISH is the NMFS Alaska Region online Fisheries Information System. The forms and applications are available as fillable pdfs on the NMFS Alaska Region website at https://www.fisheries.noaa.gov/permit/alaska-ifq-halibut-sablefish-and-cdq-halibut-program-fishery-applications-and-reporting.

III. Data

OMB Control Number: 0648-0272.

Form Number(s): None.

Type of Review: Regular submission (extension of a current information collection).

Affected Public: Individuals or households; Business or other for-profit organizations; Not-for-profit institutions.

Estimated Number of Respondents: 2,559.

Estimated Time per Response: Application for IFQ/CDQ Hired Master Permit, 1 hour; Application for IFQ/CDQ Registered Buyer Permit, 30 minutes; Application for Replacement of Certificates or Permits, 30 minutes; Application for Eligibility to Receive QS/IFQ by Transfer, 2 hours; QS Holder: Identification of Ownership Interest, 2 hours; Application for Transfer of QS, 2 hours; Application for Transfer of QS/IFQ by Self Sweep Up, 2 hours; Application for Medical Transfer of IFQ, 1.5 hours; Application for Temporary Transfer of Halibut/Sablefish IFQ, 2 hours; Annual Report for CDQ IFQ Transfers, 40 hours; QS/IFQ Beneficiary Designation Form, 30 minutes; Appeals, 4 hours; IFQ Administrative Waiver, 6 minutes; Prior Notice of Landing, 15 minutes; IFQ Departure Report, 15 minutes; Transshipment Authorization, 12 minutes; Dockside sales, 6 minutes; Application for a Non-profit Corporation to be Designated as a Recreational Quota Entity, 200 hours; Application for Transfer of Quota Share To or From a Recreational Quota Entity, 2 hours; Recreational Quota Entity Annual Report, 40 hours.

Estimated Total Annual Burden Hours: 4,588 hours.

Estimated Total Annual Cost to Public: $21,471.

Respondent's Obligation: Required to Obtain or Retain Benefits; Mandatory.

Legal Authority: Magnuson-Stevens Fishery Conservation and Management Act, 16 U.S.C. 1801 et seq.; Northern Pacific Halibut Act of 1982, 16 U.S.C. 773c.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-00553 Filed 1-12-21; 8:45 am]

BILLING CODE 3510-22-P